DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 27, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Cochran Fellowship Program.

OMB Control Number: 0551-New.

Summary of Collection: Since 1984, U.S. Congress has made funds available to USDA's Cochran Fellowship Program to provide short-term training to Fellows from middle-income and emerging market countries to expose agricultural officials and industry representatives to U.S. agriculture products and policies, helping facilitate lasting, global relationships. The Cochran Fellowship Program is implemented by USDA's Foreign Agricultural Service (FAS), Global Programs, Fellowship Programs, and has hosted U.S.-based trainings for over 19,000 international participants from 127 countries worldwide.

Need and Use of the Information: FAS will collection information through the Cochran Fellowship Application, Acton Plan and Evaluation Form. The information is used in determining the adequacy of the candidacy alongside FAS Washington. The application is designed to capture the professional status of the applicant, the applicant's personal contact information, and the applicant's suitability for the program. The action plan is used to help fellows set goals based on the information they have learned throughout their training program and the evaluation forms are used by Cochran Fellowship staff to assess the success of each training program. If the information is not collected FAS would not be able to execute the Cochran Fellowship Program.

Description of Respondents: Individuals.

Number of Respondents: 550.

Frequency of Responses: Reporting: On occasion.

Total Burden Hours: 1,199.

Ruth Brown,
Departmental Information Collection Clearance Officer.

[FR Doc. 2023-01686 Filed 1-26-23; 8:45 am]

BILLING CODE 3410-10-P